DEPARTMENT OF ENERGY

Federal Energy Regulatory Commission

[Docket No. PL10-4-000]

Enforcement of Statutes, Orders, Rules and Regulations; Notice of Workshops on Penalty Guidelines

March 24, 2010.

The staff of the Federal Energy Regulatory Commission (Commission) will hold three workshops to provide a forum for interested participants to ask questions on the interpretation and application of the Policy Statement on Penalty Guidelines, which the Commission recently issued on March 18, 2010.¹ Staff will hold the first workshop on April 7, 2010, from 9:30 a.m. to 12 p.m. Eastern Daylight Time, in the Commission Meeting Room (2C) at the Commission's Washington, DC headquarters, 888 First Street, NE. To accommodate participants outside of Washington, DC, this workshop will be webcast, but will not be transcribed. All interested parties are invited, and there is no registration list or registration fee to attend.

¹ Enforcement of Statutes, Orders, Rules, and Regulations, 130 FERC ¶ 61,220 (2010).

Staff will also hold similar workshops in Houston, Texas on April 14, 2010, and in San Francisco, California on April 15, 2010. The times and locations of these later workshops will be provided in a subsequent notice. These workshops will not be webcast.

The purpose of the workshops will be to have staff discuss how the Penalty Guidelines will be applied and to answer questions about the Penalty Guidelines. In that regard, questions are being solicited from the public in advance of the workshops. Please submit questions on the Penalty Guidelines to Jeremy Medovoy, Attorney-Advisor, Office of Enforcement, Division of Investigations, by e-mail at Jeremy.Medovoy@ferc.gov. Workshop participants will also have an opportunity to ask questions at the workshops, but due to time limitations, questions in advance are encouraged.

Commission conferences are accessible under section 508 of the Rehabilitation Act of 1973. For accessibility accommodations please send an e-mail to accessibility@ferc.gov or call toll free 1-866-208-3372 (voice) or 202-208-1659 (TTY), or send a FAX to 202-208-2106 with the required accommodations.

Questions about the workshops may be directed to Jeremy Medovoy by e-mail at Jeremy.Medovoy@ferc.gov or by telephone at 202-502-6768.

Kimberly D. Bose,
Secretary.

[FR Doc. 2010-7140 Filed 3-30-10; 8:45 am]

BILLING CODE 6717-01-P